DEPARTMENT OF HEALTH AND HUMAN SERVICES

National Institutes of Health

Request for Public Comments on Co-Occurring Conditions in Autism

AGENCY: National Institutes of Health, HHS.

ACTION: Request for Information.

SUMMARY: On behalf of the Interagency Autism Coordinating Committee (IACC), the National Institute of Mental Health (NIMH) Office of National Autism Coordination (ONAC) is seeking public comments to assist the IACC in identifying priorities related to physical and mental health conditions, and other related conditions that commonly co-occur with autism. The IACC is requesting public comments on the impact of these co-occurring conditions, as well as research, services, and policy needs that may be helpful to consider in addressing issues related to these conditions.

DATES: Responses to this notice are voluntary and the public comment period will be open from January 3, 2024, through February 14, 2024.

ADDRESSES: All comments must be submitted electronically via the web-based form at: https://iacc.hhs.gov/meetings/public-comments/requests-for-information/2023/co-occurring-conditions.shtml.

FOR FURTHER INFORMATION CONTACT: Specific questions about this Request for Public Comment should be directed to: Ana Cappuccio by phone at 301-402-4837 or email at iaccpublicinquiries@mail.nih.gov.

SUPPLEMENTARY INFORMATION: The IACC http://www.iacc.hhs.gov/ is a federal advisory committee composed of federal and public members that provides advice to the Secretary of Health and Human Services on autism spectrum disorder. The Committee is authorized under the Autism CARES Act of 2019, Public Law 116-60. The 2021-2023 IACC Strategic Plan for Autism Research, Services, and Policy at https://iacc.hhs.gov/publications/strategic-plan/2023/ provides an overview of priorities identified by the IACC to improve health and well-being for autistic individuals and their families.

The Committee seeks public comment on the following questions related to the impact of co-occurring physical and mental health conditions:

1. What are the most significant challenges caused by co-occurring physical health conditions in autistic people? (Examples of co-occurring physical health conditions: gastrointestinal disorders, sleep disturbances, epilepsy, sensory and motor challenges)

2. What are the most significant challenges caused by co-occurring mental health conditions in autistic people? (Examples of mental health co-occurring conditions: depression, anxiety, aggressive or self-injurious behavior, suicidality)

3. What are the most significant challenges caused by other conditions that co-occur with autism, such as learning disabilities, developmental disabilities, intellectual disabilities, and communication disabilities?

4. What additional research is needed to help address co-occurring conditions for autistic people?

5. What could be improved in autism services and supports to help address co-occurring conditions for autistic people? (Examples: Equitable access to and accessibility of services, insurance coverage, service systems issues, patient-provider interactions)

6. What lasting impact has COVID-19 infection and illness had on co-occurring physical and/or mental health conditions for autistic people?

7. What lasting positive or negative impacts have societal changes due to the COVID-19 pandemic had on physical or mental health for autistic people? (Examples of societal changes: disruptions in services, increased remote work and school, increased use of telehealth, reduced in-person social interactions and obligations)

Feedback provided in this RFI may be used by the IACC to inform future activities and reports.

Submission Information: For each topic/question in the Request for Public Comment, commenters may provide input on what they consider to be the most important research, services, and policy issues and remaining gaps in the subject area covered by that question.

Please note that the web form will accept a maximum of 1,500 characters (including letters, numbers, punctuation, etc.) per topic area. A valid email address is required for submission, and only one submission per email address will be accepted. If duplicate submissions are received (i.e., form letters), only one example of such a submission will be included in the final set of comments.

The information that commenters provide will become part of the public record; as such, please do not include any personally identifiable or confidential information in the comments. The web form will provide the option of submitting responses anonymously, or the choice to include a name and/or organization associated with the comment.

Comments are subject to redaction in accordance with federal policies and the IACC's public comment guidelines and privacy policy. To view the IACC's public comment guidelines and privacy policy, visit: https://iacc.hhs.gov/meetings/public-comments/guidelines/. All comments or summaries of comments received will be made publicly available on the IACC website www.iacc.hhs.gov within 90 days of the closing deadline for this notice. Email addresses associated with comments will not be included as part of the public disclosure. After the closing deadline, responses cannot be edited or withdrawn. No basis for claims against the U.S. Government shall arise as a result of a response to this request for information or from the Government's use of such information.

Instructions: All comments must be submitted through the web form at https://iacc.hhs.gov/meetings/public-comments/requests-for-information/2023/co-occurring-conditions.shtml. Individuals submitting comments will receive an onscreen confirmation acknowledging receipt of the comment, but commenters will not receive individualized responses or feedback from the IACC or ONAC except in the cases of requests for technical assistance with the web form, etc. Only one comment per email address will be accepted, and if duplicate comments are received, only one example will be provided to the IACC.

Dated: December 20, 2023.
Susan A. Daniels,
Director, Office of National Autism Coordination, National Institute of Mental Health.

[FR Doc. 2023-28425 Filed 12-22-23; 8:45 am]

BILLING CODE 4140-01-P